DEPARTMENT OF EDUCATION

National Advisory Committee on Institutional Quality and Integrity (National Advisory Committee); Meeting

AGENCY: National Advisory Committee on Institutional Quality and Integrity, Department of Education.

What Is the Purpose of This Notice?

The purpose of this notice is to announce the public meeting of the National Advisory Committee and invite third-party oral presentations (3-5 minutes) before the Committee. In all instances, your comments about agencies seeking initial recognition, continued recognition and/or an expansion of an agency's scope of recognition must relate to the Criteria for Recognition. In addition, your comments for any agency whose interim report is scheduled for review must relate to the issues raised and the Criteria for Recognition cited in the Secretary's letter that requested the interim report. This notice also presents the proposed agenda and informs the public of its opportunity to attend this meeting. The notice of this meeting is required under section 10(a)(2) of the Federal Advisory Committee Act.

When and Where Will the Meeting Take Place?

We will hold the public meeting on Wednesday, May 30, 2007, from 8:30 a.m. until approximately 5:30 p.m.; on Thursday, May 31, 2007, from 8:30 a.m. until approximately 5:30 p.m., and on Friday, June 1, 2007, from 8:30 a.m. until approximately 3:30 p.m. in the Mt. Vernon Rooms A and B at The Madison, 1177 Fifteenth Street, NW., Washington, DC 20005. You may call the hotel at (202) 862-1600 to inquire about rooms.

What Assistance Will Be Provided to Individuals With Disabilities?

The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Who Is the Contact Person for the Meeting?

Please contact Ms. Francesca Paris-Albertson, Executive Director of the National Advisory Committee on Institutional Quality and Integrity, if you have questions about the meeting. You may contact her at the U.S. Department of Education, Room 7110, 1990 K St., NW., Washington, DC 20006, telephone: (202) 219-7009, fax: (202) 219-7008, e-mail: Francesca.Paris-Albertson@ed.gov. Individuals who use a telecommunications device for the deaf (TDD) may call the Federal Information Relay Service at 1-800-877-8339.

What Is the Authority for the National Advisory Committee?

The National Advisory Committee on Institutional Quality and Integrity is established under Section 114 of the Higher Education Act (HEA) as amended, 20 U.S.C. 1011c.

What are the Functions of the National Advisory Committee?

The Committee advises the Secretary of Education about:

• The establishment and enforcement of the Criteria for Recognition of accrediting agencies or associations under subpart 2 of part H of Title IV, HEA.

• The recognition of specific accrediting agencies or associations.

• The preparation and publication of the list of nationally recognized accrediting agencies and associations.

• The eligibility and certification process for institutions of higher education under Title IV, HEA.

• The development of standards and criteria for specific categories of vocational training institutions and institutions of higher education for which there are no recognized accrediting agencies, associations, or State agencies in order to establish the interim eligibility of those institutions to participate in Federally funded programs.

• The relationship between: (1) Accreditation of institutions of higher education and the certification and eligibility of such institutions, and (2) State licensing responsibilities with respect to such institutions.

• Any other advisory functions relating to accreditation and institutional eligibility that the Secretary may prescribe.

What Items Will Be on the Agenda for Discussion at the Meeting?

Agenda topics will include the review of agencies that have submitted petitions for renewal of recognition and/or an expansion of an agency's scope of recognition, and the review of agencies that have submitted an interim report.

What Agencies Will the National Advisory Committee Review at the Meeting?

The following agencies will be reviewed during the May 30-June 1, 2007 meeting of the National Advisory Committee:

Nationally Recognized Accrediting Agencies

Petition for an Expansion of Scope

1. Accrediting Bureau of Health Education Schools (Current scope of recognition: The accreditation of private, postsecondary institutions in the United States offering predominantly allied health education programs and the programmatic accreditation of medical assistant, medical laboratory technician and surgical technology programs, leading to a certificate, diploma, or the Associate of Applied Science and Associate of Occupational Science degrees.) (Requested scope of recognition: The accreditation of private, postsecondary institutions in the United States offering predominantly allied health education programs and the programmatic accreditation of medical assistant, medical laboratory technician and surgical technology programs, leading to a certificate, diploma, Associate of Applied Science, Associate of Occupational Science, or Academic Associate degree, including those offered via distance education.)

Petitions for Renewal of Recognition That Include an Expansion of the Scope of Recognition

1. American Board of Funeral Service Education, Committee on Accreditation (Current scope of recognition: The accreditation of institutions and programs within the United States awarding diplomas, associate degrees and bachelor's degrees in funeral service or mortuary science.) (Requested scope of recognition: The accreditation of institutions and programs within the United States awarding diplomas, associate degrees and bachelor degrees in funeral service and/or mortuary science, including the accreditation of Distance Learning courses and programs offered by these programs and institutions.)

2. American Dietetic Association, Commission on Accreditation for Dietetics Education (Current scope of recognition: The accreditation within the United States of Didactic and Coordinated Programs in Dietetics at both the undergraduate and graduate level, post baccalaureate Dietetic Internships, and Dietetic Technician Programs at the associate degree level and for its accreditation of such programs offered via distance education.) (Requested scope of recognition: The accreditation and preaccreditation within the United States of Didactic and Coordinated Programs in Dietetics at both the undergraduate and graduate level, post baccalaureate Dietetic Internships, and Dietetic Technician Programs at the associate degree level and for its accreditation of such programs offered via distance education.)

3. Council on Accreditation of Nurse Anesthesia Educational Programs (Current scope of recognition: The accreditation of institutions and programs of nurse anesthesia within the United States at the post-master's certificate, master's, or doctoral degree levels.) (Requested scope of recognition: The accreditation of institutions and programs of nurse anesthesia within the United States at the post master's certificate, master's, or doctoral degree levels, including programs offering distance education.)

4. Council on Education for Public Health (Current scope of recognition: The accreditation and preaccreditation (“Preaccreditation status”) within the United States of graduate schools of public health, graduate programs in community health education outside schools of public health, and graduate programs in community health/preventive medicine outside schools of public health.) (Requested scope of recognition: The accreditation within the United States of schools of public health and public health programs outside schools of public health at the baccalaureate and graduate degree levels, including those offered via distance education.)

5. Council on Occupational Education (Current scope of recognition: The accreditation and preaccreditation (“Candidacy status”) throughout the United States of non-degree granting postsecondary occupational/vocational institutions and those postsecondary occupational/vocational education institutions that have state authorization to grant the applied associate degree in specific vocational/occupational fields.) (Requested scope of recognition: The accreditation and preaccreditation (“Candidacy Status”) throughout the United States of postsecondary occupational education institutions offering non-degree and applied associate degree programs in specific career and technical education fields, including institutions that offer programs via distance education.)

Petitions for Renewal of Recognition

1. Association of Advanced Rabbinical and Talmudic Schools, Accreditation Commission (Current and requested scope of recognition: The accreditation and preaccreditation (“Correspondent” and “Candidate”) within the United States of advanced rabbinical and Talmudic schools.)

2. Commission on Accreditation of Healthcare Management Education (Current and requested scope of recognition: The accreditation throughout the United States of graduate programs in health services administration.)

3. Liaison Committee on Medical Education (Current and requested scope of recognition: The accreditation of medical education programs within the United States leading to the M.D. degree.)

4. Middle States Association of Colleges and Schools, Commission on Higher Education (Current and requested scope of recognition: The accreditation and preaccreditation (“Candidacy status”) of institutions of higher education in Delaware, the District of Columbia, Maryland, New Jersey, New York, Pennsylvania, Puerto Rico, and the U.S. Virgin Islands, including distance education programs offered at those institutions.)

5. New England Association of Schools and Colleges, Commission on Technical and Career Institutions (Current and requested scope of recognition: The accreditation and preaccreditation (“Candidate status”) of secondary institutions with vocational-technical programs at the 13th and 14th grade level, postsecondary institutions, and institutions of higher education that provide primarily vocational/technical education at the certificate, associate, and baccalaureate degree levels in Connecticut, Maine, Massachusetts, New Hampshire, Rhode Island, and Vermont. This recognition extends to the Board of Trustees of the Association jointly with the Commission for decisions involving preaccreditation, initial accreditation, and adverse actions.)

6. New York State Board of Regents, and the Commissioner of Education (Current and requested scope of recognition: The accreditation of those degree-granting institutions of higher education in New York that designate the agency as their sole or primary nationally recognized accrediting agency for purposes of establishing eligibility to participate in HEA programs.)

Interim Reports (An interim report is a follow-up report on an accrediting agency's compliance with specific criteria for recognition.)

1. American Association for Marriage and Family Therapy, Commission on Accreditation for Marriage and Family Therapy Education.

2. American Osteopathic Association, Commission on Osteopathic College Accreditation.

3. American Podiatric Medical Association, Council on Podiatric Medical Education.

State Agencies Recognized for the Approval of Nurse Education

Petition for Initial Recognition

1. Kansas State Board of Nursing.

Petition for Renewal of Recognition

1. Missouri State Board of Nursing.

Federal Agency Seeking Degree-Granting Authority

In accordance with the Federal policy governing the granting of academic degrees by Federal agencies (approved by a letter from the Director, Bureau of the Budget, to the Secretary, Health, Education, and Welfare, dated December 23, 1954), the Secretary is required to establish a review committee to advise the Secretary concerning any legislation that may be proposed that would authorize the granting of degrees by a Federal agency. The review committee forwards its recommendation concerning a Federal agency's proposed degree-granting authority to the Secretary, who then forwards the committee's recommendation and the Secretary's recommendation to the Office of Management and Budget for review and transmittal to the Congress. The Secretary uses the Advisory Committee as the review committee required for this purpose. Accordingly, the Advisory Committee will review the following institution at this meeting:

Proposed Master's Degree-Granting Authority

1. Air University, Maxwell Air Force Base, Alabama (request to award a Master's of Science in Flight Test Engineering Degree.)

Who Can Make Third-Party Oral Presentations at This Meeting?

We invite you to make a third-party oral presentation before the National Advisory Committee concerning the recognition of any agency published in this notice.

How Do I Request To Make an Oral Presentation?

You must submit a written request to make an oral presentation concerning an agency listed in this notice to the contact person identified earlier in this notice so that the request is received via mail, fax, or e-mail no later than April 18, 2007.

Your request (no more than 6 pages maximum) must include:

1. The names, addresses, phone and fax numbers, and e-mail addresses of all persons seeking an appearance,

2. The organization they represent, and

3. A brief summary of the principal points to be made during the oral presentation.

If you wish, you may attach documents illustrating the main points of your oral testimony. Please keep in mind, however, that any attachments are included in the 6-page limit. Please do not send materials directly to Committee members. Only materials submitted by the deadline to the contact person listed in this notice and in accordance with these instructions become part of the official record and are considered by the Committee in its deliberations. Documents received after the April 18, 2007 deadline will not be distributed to the National Advisory Committee for their consideration. Individuals making oral presentations may not distribute written materials at the meeting.

If I Cannot Attend the Meeting, Can I Submit Written Comments Regarding an Accrediting Agency in Lieu of Making an Oral Presentation?

This notice requests third-party oral testimony, not written comment. Requests for written comments on agencies that are being reviewed during this meeting were published in the Federal Register on January 30, 2007. The National Advisory Committee will receive and consider only written comments submitted by the deadline specified in the above-referenced Federal Register notice.

How Do I Request To Present Comments Regarding General Issues Rather Than Specific Accrediting Agencies?

At the conclusion of the meeting, the National Advisory Committee, at its discretion, may invite attendees to address the Committee briefly on issues pertaining to the functions of the Committee, which are listed earlier in this notice. If you are interested in making such comments, you should inform Ms. Paris-Albertson before or during the meeting.

How May I Obtain Access to the Records of the Meeting?

We will record the meeting and make a transcript available for public inspection at the U.S. Department of Education, 1990 K St., NW., Washington, DC 20006 between the hours of 9 a.m. and 4:30 p.m., Monday through Friday, except Federal holidays. It is preferred that an appointment be made in advance of such inspection.

How May I Obtain Electronic Access to This Document?

You may view this document, as well as all other Department of Education documents published in the Federal Register, in text or Adobe Portable Document Format (PDF) on the Internet at the following site: http://www.ed.gov/legislation/FedRegister. To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/index.html.

(Authority: 5 U.S.C. Appendix 2.)

Dated: March 2, 2007.
James F. Manning,
Delegated the Authority of the Assistant Secretary.

[FR Doc. E7-4448 Filed 3-9-07; 8:45 am]

BILLING CODE 4000-01-P